DEPARTMENT OF COMMERCE

National Oceanic and Atmospheric Administration

RIN 0648-XA383

Fisheries of the Caribbean; Southeast Data, Assessment, and Review (SEDAR); Public Meeting

AGENCY: National Marine Fisheries Service (NMFS), National Oceanic and Atmospheric Administration (NOAA), Commerce.

ACTION: Notice of SEDAR Data and Review Workshops for Caribbean silk snapper, queen snapper and redtail parrotfish.

SUMMARY: The SEDAR assessments of the Caribbean stocks of silk snapper, queen snapper and redtail parrotfish will consist of a series of three workshops: a Data Workshop, an Assessment Workshop, and a Review Workshop. See SUPPLEMENTARY INFORMATION.

DATES: The Data Workshop will take place May 16-20, 2011; the Review Workshop will take place October 17-21, 2011. See SUPPLEMENTARY INFORMATION for specific dates and times of the workshops.

ADDRESSES: The Data Workshop will be held at the Renaissance St. Croix Carambola Beach Resort and Spa, Estate Davis Bay, Kingshill St. Croix VI 00850, telephone: (888) 503-8760. The Review Workshop will be held at the Hotel El Convento, 100 Cristo Street, Old San Juan, PR 00901, telephone: (181) 723-9036.

FOR FURTHER INFORMATION CONTACT: Julie A. Neer, SEDAR Coordinator, 4055 Faber Place Drive, Suite 201, North Charleston, SC 29405; telephone: (843) 571-4366.

SUPPLEMENTARY INFORMATION: The Gulf of Mexico, South Atlantic, and Caribbean Fishery Management Councils, in conjunction with NOAA Fisheries and the Atlantic and Gulf States Marine Fisheries Commissions have implemented the Southeast Data, Assessment and Review (SEDAR) process, a multi-step method for determining the status of fish stocks in the Southeast Region. SEDAR includes three workshops: (1) Data Workshop, (2) Stock Assessment Workshop and (3) Review Workshop. The product of the Data Workshop is a data report which compiles and evaluates potential datasets and recommends which datasets are appropriate for assessment analyses. The product of the Stock Assessment Workshop is a stock assessment report which describes the fisheries, evaluates the status of the stock, estimates biological benchmarks, projects future population conditions, and recommends research and monitoring needs. The assessment is independently peer reviewed at the Review Workshop. The product of the Review Workshop is a Consensus Summary documenting Panel opinions regarding the strengths and weaknesses of the stock assessment and input data. Participants for SEDAR Workshops are appointed by the Gulf of Mexico, South Atlantic, and Caribbean Fishery Management Councils and NOAA Fisheries Southeast Regional Office and Southeast Fisheries Science Center. Participants include data collectors and database managers; stock assessment scientists, biologists, and researchers; constituency representatives including fishermen, environmentalists, and NGO's; International experts; and staff of Councils, Commissions, and State and Federal agencies.

SEDAR 21 Data and Review Workshop Schedule:

May 16-20, 2011; SEDAR 21 Data Workshop

May 16, 2011: 1 p.m.-8 p.m.; May 17-19, 2011: 8 a.m.-8 p.m.; May 20, 2011: 8 a.m.-12 p.m.

An assessment data set and associated documentation will be developed during the Data Workshop. Participants will evaluate all available data and select appropriate sources for providing information on life history characteristics, catch statistics, discard estimates, length and age composition, and fishery dependent and fishery independent measures of stock abundance.

October 17-21, 2011; SEDAR 26 Review Workshop

October 17, 2011: 1 p.m.-8 p.m.;

October 18-20, 2011: 8 a.m.-8 p.m.;

October 21, 2011: 8 a.m.-12 p.m.

The Review Workshop is an independent peer review of the assessment developed during the Data and Assessment Workshops. Workshop Panelists will review the assessment and document their comments and recommendations in a Consensus Summary.

The established times may be adjusted as necessary to accommodate the timely completion of discussion relevant to the assessment process. Such adjustments may result in the meeting being extended from, or completed prior to the time established by this notice.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to the Council office (see ADDRESSES) at least 10 business days prior to each workshop.

Dated: April 18, 2011.
Tracey L. Thompson,
Acting Director, Office of Sustainable Fisheries, National Marine Fisheries Service.

[FR Doc. 2011-9707 Filed 4-20-11; 8:45 am]

BILLING CODE 3510-22-P